Title 3—

The President

Executive Order 13994 of January 21, 2021

Ensuring a Data-Driven Response to COVID-19 and Future High-Consequence Public Health Threats

By the authority vested in me as President by the Constitution and the laws of the United States of America, it is hereby ordered as follows:

Section 1. Policy. It is the policy of my Administration to respond to the coronavirus disease 2019 (COVID-19) pandemic through effective approaches guided by the best available science and data, including by building back a better public health infrastructure. This stronger public health infrastructure must help the Nation effectively prevent, detect, and respond to future biological threats, both domestically and internationally.

Consistent with this policy, the heads of all executive departments and agencies (agencies) shall facilitate the gathering, sharing, and publication of COVID-19-related data, in coordination with the Coordinator of the COVID-19 Response and Counselor to the President (COVID-19 Response Coordinator), to the extent permitted by law, and with appropriate protections for confidentiality, privacy, law enforcement, and national security. These efforts shall assist Federal, State, local, Tribal, and territorial authorities in developing and implementing policies to facilitate informed community decision-making, to further public understanding of the pandemic and the response, and to deter the spread of misinformation and disinformation.

Sec. 2. Enhancing Data Collection and Collaboration Capabilities for High-Consequence Public Health Threats, Such as the COVID-19 Pandemic. (a) The Secretary of Defense, the Attorney General, the Secretary of Commerce, the Secretary of Labor, the Secretary of Health and Human Services (HHS), the Secretary of Education, the Director of the Office of Management and Budget (OMB), the Director of National Intelligence, the Director of the Office of Science and Technology Policy (OSTP), and the Director of the National Science Foundation shall each promptly designate a senior official to serve as their agency's lead to work on COVID-19- and pandemic-related data issues. This official, in consultation with the COVID-19 Response Coordinator, shall take steps to make data relevant to high-consequence public health threats, such as the COVID-19 pandemic, publicly available and accessible.

(b) The COVID-19 Response Coordinator shall, as necessary, convene appropriate representatives from relevant agencies to coordinate the agencies' collection, provision, and analysis of data, including key equity indicators, regarding the COVID-19 response, as well as their sharing of such data with State, local, Tribal, and territorial authorities.

(c) The Director of OMB, in consultation with the Director of OSTP, the United States Chief Technology Officer, and the COVID-19 Response Coordinator, shall promptly review the Federal Government's existing approaches to open data, and shall issue supplemental guidance, as appropriate and consistent with applicable law, concerning how to de-identify COVID-19-related data; how to make data open to the public in human- and machine-readable formats as rapidly as possible; and any other topic the Director of OMB concludes would appropriately advance the policy of this order. Any guidance shall include appropriate protections for the information described in section 5 of this order.

(d) The Director of the Office of Personnel Management, in consultation with the Director of OMB, shall promptly:

(i) review the ability of agencies to hire personnel expeditiously into roles related to information technology and the collection, provision, analysis, or other use of data to address high-consequence public health threats, such as the COVID-19 pandemic; and

(ii) take action, as appropriate and consistent with applicable law, to support agencies in such efforts.

Sec. 3. Public Health Data Systems. The Secretary of HHS, in consultation with the COVID-19 Response Coordinator and the heads of relevant agencies, shall promptly:

(a) review the effectiveness, interoperability, and connectivity of public health data systems supporting the detection of and response to high-consequence public health threats, such as the COVID-19 pandemic;

(b) review the collection of morbidity and mortality data by State, local, Tribal, and territorial governments during high-consequence public health threats, such as the COVID-19 pandemic; and

(c) issue a report summarizing the findings of the reviews detailed in subsections (a) and (b) of this section and any recommendations for addressing areas for improvement identified in the reviews.

Sec. 4. Advancing Innovation in Public Health Data and Analytics. The Director of OSTP, in coordination with the National Science and Technology Council, as appropriate, shall develop a plan for advancing innovation in public health data and analytics in the United States.

Sec. 5. Privileged Information. Nothing in this order shall compel or authorize the disclosure of privileged information, law-enforcement information, national-security information, personal information, or information the disclosure of which is prohibited by law.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 21, 2021.

[FR Doc. 2021-01849

Filed 1-25-21; 11:15 am]

Billing code 3295-F1-P